DEPARTMENT OF HEALTH AND HUMAN SERVICES

Centers for Disease Control and Prevention

Disease, Disability, and Injury Prevention and Control Special Emphasis Panel (SEP)—DP20-001, Assessing the Burden of Diabetes By Type in Children, Adolescents and Young Adults (DiCAYA); Amended Notice of Meeting

Notice is hereby given of a change in the meeting of the Disease, Disability, and Injury Prevention and Control Special Emphasis Panel (SEP)—DP20-001, Assessing the Burden of Diabetes By Type in Children, Adolescents and Young Adults (DiCAYA); March 11, 2019, 10:00 a.m.-6:00 p.m., EDT. Teleconference, Centers for Disease Control and Prevention, Atlanta, Georgia 30341 which was published in the Federal Register on January 10, 2020, Volume 85, Number 7, page 1315.

The meeting is being amended to change the meeting date to March 10-11, 2020, from 11:00 a.m.-5:00 p.m., EDT, on March 10, 2020, and 10:00 a.m.-6:00 p.m., EDT, on March 11, 2020.

FOR FURTHER INFORMATION CONTACT: Jaya Raman Ph.D., Scientific Review Officer, CDC, 4770 Buford Highway, Mailstop F80, Atlanta, Georgia 30341; Telephone: (770) 488-6511; kva5@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-01206 Filed 1-23-20; 8:45 am]

BILLING CODE 4163-18-P